DEPARTMENT OF DEFENSE

Department of the Air Force

Air Force Performance Review Boards

AGENCY: Department of the Air Force.

ACTION: Notice.

SUMMARY: Notice is hereby given of the appointment of members of the Air Force Performance Review Boards.

SUPPLEMENTARY INFORMATION: Section 4314(c)(1) through (5) of Title 5, U.S.C., requires each agency to establish, in accordance with the regulations prescribed by the U.S. Office of Personnel Management, one or more SES performance review boards. The purpose of the Performance Review Board is to review records on all Air Force SES, DISES, SL and ST members and to make recommendations to the appointing authority on performance management issues such as appraisals, bonuses, and pay level increases.

The following have been designated as members of the Air Force Performance Review Boards:

General Bruce Carlson, Commander, AF Materiel Command—Board President— Lieutenant General Rod Bishop, Commander, Third Air Force.

Mr. David Tillotson, Deputy Chief of Staff for Warfighting Integration.

Mrs. Barbara Westgate, AF Materiel Command Executive Director.

Mr. Timothy Leyland, Assistant Deputy Chief of Staff, Manpower & Personnel.

Mrs. Patricia Young, Deputy to the Commander, Military Surface Deployment and Distribution Command.

Mr. Richard Gustafson, Deputy Assistant Secretary (Financial Operations).

Mr. Steven Cantrell, Director, Analysis & Estimates, DCS Intelligence, Surveillance and Reconnaissance.

Mr. Michael Rhodes, OSD ODAM WHS, Non-Air Force SES Senior Board Member.

Mrs. Mary Lacey, NSPS Program Executive Office, Non-Air Force SES Senior Board Member.

Mr. John Salvatore, OSD OUDSI, Non-Air Force DISES Board Member.

FOR FURTHER INFORMATION CONTACT: Major Therese Schuler, Air Force Senior Executive Management Office, AF/DPSS, 1040 Air Force Pentagon, Washington, DC 20330-1040, (703) 695-8040.

Bao-Anh Trinh,
Air Force Federal Register Liaison Officer.

[FR Doc. E7-21494 Filed 10-31-07; 8:45 am]

BILLING CODE 5001-05-P